DEPARTMENT OF TRANSPORTATION

Coast Guard

33 CFR Part 117

[CGD01-01-157]

Drawbridge Operation Regulations: Harlem River, NY

AGENCY: Coast Guard, DOT.

ACTION: Notice of temporary deviation from regulations.

SUMMARY: The Commander, First Coast Guard District, has issued a temporary deviation from the drawbridge operation regulations for the Macombs Dam Bridge, mile 3.2, across the Harlem River in New York City, New York. This deviation from the regulations will allow the bridge to remain in the closed position from November 1, 2001 through December 30, 2001. This temporary deviation is necessary to facilitate necessary repairs at the bridge.

DATES: This deviation is effective from November 1, 2001 through December 30, 2001.

FOR FURTHER INFORMATION CONTACT: Joe Arca, Project Officer, First Coast Guard District, at (212) 668-7165.

SUPPLEMENTARY INFORMATION: The Macombs Dam Bridge, mile 3.2, across the Harlem River has a vertical clearance in the closed position of 27 feet at mean high water and 32 feet at mean low water. The existing drawbridge operating regulations at 33 CFR 117.789 require the bridge to open on signal from 10 a.m. to 5 p.m. if at least a four-hour notice is given.

The bridge owner, The New York City Department of Transportation (NYCDOT), requested a temporary deviation from the drawbridge operating regulations to facilitate scheduled maintenance, replacement of structural steel and the bridge roadway deck.

This deviation to the operating regulations will allow the bridge to remain in the closed position from November 1, 2001 through December 30, 2001.

This deviation from the operating regulations is authorized under 33 CFR 117.35, and will be performed with all due speed in order to return the bridge to normal operation as soon as possible.

Dated: October 3, 2001.
G.N. Naccara,
Rear Admiral, U.S. Coast Guard, Commander, First Coast Guard District.

[FR Doc. 01-26150 Filed 10-16-01; 8:45 am]

BILLING CODE 4910-15-U